DEPARTMENT OF COMMERCE

National Oceanic and Atmospheric Administration

RIN 0648-XC843

North Pacific Fishery Management Council; Notice of Public Meeting

AGENCY: National Marine Fisheries Service (NMFS), National Oceanic and Atmospheric Administration (NOAA), Commerce.

ACTION: Notice of public meetings.

SUMMARY: The North Pacific Fishery Management Council (Council) Ecosystem Committee will meet in Seattle, WA.

DATES: The meeting will be held on September 16, 17, 2013 from 8:30 a.m. to 5 p.m.

ADDRESSES: The meeting will be held at the Alaska Fishery Science Center, 7600 Sand Point Way NE., Building 4, National Marine Mammal Laboratory (NMML) conference room, Room 2039, Seattle, WA.

Council address: North Pacific Fishery Management Council, 605 W 4th Ave., Suite 306, Anchorage, AK 99501-2252.

FOR FURTHER INFORMATION CONTACT: Diana Evans, Council staff, telephone: (907) 271-2809.

SUPPLEMENTARY INFORMATION: The agenda will be as follows:

Development of Ecosystem-based management (EMB) vision statement; Operationalizing EBM in Council projects, including the Aleutian Islands Fishery Ecosystem Plan, the Arctic Fishery Management Plan (FMP); Bering Sea coral conservation, and the Bering Sea research area and gear modification areas.

Concluding Recommendations to Council

The Agenda is subject to change, and the latest version is posted at http://www.alaskafisheries.noaa.gov/npfmc/.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: August 26, 2013.
Tracey L. Thompson,
Acting Deputy Director, Office of Sustainable Fisheries, National Marine Fisheries Service.

[FR Doc. 2013-21150 Filed 8-29-13; 8:45 am]

BILLING CODE 3510-22-P